FEDERAL COMMUNICATIONS COMMISSION

Information Collection Being Submitted for Review and Approval to the Office of Management and Budget

AGENCY: Federal Communications Commission.

ACTION: Notice and request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: (a) Whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before May 7, 2012. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION:

OMB Control Number: 3060-1147.

Title: Wireless E911 Phase II Location Accuracy Requirements, Third Report and Order, FCC 11-107.

Form Number: N/A.

Type of Review: Revision of a currently approved collection.

Respondents: Individuals and households; business or other for-profit entities; Not-for-profit institutions and State, Local, or Tribal Government.

Number of Respondents: 4,898 respondents; 9,514 responses.

Estimated Time per Response: 5.5867143 hours (average).

Frequency of Response: On occasion reporting requirement and third party disclosure requirement.

Obligation to Respond: Mandatory. Statutory authority for this information collection is contained in 47 U.S.C. Sections 151, 154 and 332 of the Communications Act of 1934, as amended.

Total Annual Burden: 53,152 hours.

Total Annual Cost: N/A.

Privacy Impact Assessment: N/A.

Nature and Extent of Confidentiality: No questions of a confidential nature are asked.

Needs and Uses: The Commission obtained OMB approval for this new collection in March 2011. The Commission is now seeking OMB approval for another revision to this information collection. The Commission will submit this information collection to the OMB after publication of this 30 day notice.

The Commission adopted and released a Third Report and Order, FCC 11-107, PS Docket No. 07-114, which provides that new Commercial Mobile Radio Service (CMRS) providers, meeting the definition of covered CMRS providers in Section 20.18 and deploying networks subsequent to the effective date of the Third Report and Order that are not an expansion or upgrade of an existing CMRS network, must meet the handset-based location accuracy standard from the start. Consequently, the rule requires new CMRS providers launching new stand-alone networks during the eight-year implementation period for handset-based CMRS wireless licensees to meet the applicable handset-based location accuracy standard in effect of the time of deployment. Therefore, new rule section 20.18(h)(2)(iv) specifies that new CMRS providers must comply with paragraphs (h)(2)((i-iii) of Section 20.18, which are the location accuracy requirements for handset-based carriers. OMB approved the information collection for those rule paragraphs, which the Second Report and Order adopted, on March 30, 2011, under OMB Control No. 3060-1147. The Commission announced OMB's approval and the effective date in 76 FR 23713 of the Federal Register.

As a result, under the new rule section adopted by Third Report and Order, all new CMRS providers, in delivering emergency calls for Enhanced 911 service, must satisfy the handset-based location accuracy standard at either a county-based or Public Safety Answering Point (PSAP)-based geographic level. Similarly, in accordance with the new rule and under the paragraph provision of Section 20.18(h)(2)(ii), new CMRS providers may exclude up to 15 percent of the counties or PSAP areas they serve due to heavy forestation that limits handset-based technology accuracy in those counties or areas.

Therefore, new CMRS providers will be required to file a list of the specific counties where they are utilizing their respective exclusions. In its September 2010 Second Report and Order, 75 FR 70604, the Commission found that permitting this exclusion properly but narrowly accounts for the known technical limitations of handset-based location accuracy technologies, while ensuring that the public safety community and the public at large are sufficiently informed of these limitations.

When they have begun deploying their new networks, the new CMRS providers must submit initial reports, as the Commission will announce after OMB approval of this revised information collection, with a list of the areas that they are permitted to exclude from the handset-based location accuracy requirements. Accordingly, the Commission will specify the procedures for electronic filing into PS Docket No. 07-114, consistent with the current OMB approved information collection for handset-based carriers, and new CMRS providers must send copies of the exclusion reports to the National Emergency Number Association, the Association of Public-Safety Communications Officials-International, and the National Association of State 9-1-1 Administrators.

Further, the rules adopted by the Commission's September 2010 Second Report and Order, 75 FR 70604, also require that, two years after January 18, 2011, wireless carriers provide confidence and uncertainty data on a per call basis to PSAPs. Because the new rule adopted by the Third Report and Order considers new CMRS providers as providers covered under the definition of CMR providers pursuant to section 20.18 of the Commission's rules, new CMRS providers will also be subject to the information collection requirement to provide this confidence and uncertainty data.

Additionally, in view of the amended location accuracy requirements and the timeframes and benchmarks for handset-based wireless carriers to comply with them, in its September 2010 Second Report and Order, 75 FR 70604, the Commission recognized that the waiver process is suitable to address individual or unique problems, where the Commission can analyze the particular circumstances and the potential impact to public safety. Thus, similarly, the supporting statement for this information collection revision recognizes that new CMRS providers might file waiver requests and, therefore, be subject to a collection and reporting requirement.

The Third Report and Order found that requiring all new CMRS network providers to comply with the Commission's handset-based location accuracy standard is consistent with the regulatory principle of ensuring technological neutrality. Providers deploying new CMRS networks are free to use network-based location techniques, or to combine network and handset-based techniques, to provide 911 location information, provided that they meet the accuracy criteria applicable to handset-based providers. Given the long-term goal of universal support for one location accuracy standard, the Commission believed that such a mandate allows appropriate planning and ensures that new technology will comply with the most stringent location accuracy standard that applies to existing technology.

Section 47 CFR 20.18(h)(2)(iv) requires that providers of new CMRS networks that meet the definition of covered CMRS providers under paragraph (a) of this section must comply with the requirements of paragraphs (h)(2)(i)-(iii) of this section. For this purpose, a “new CMRS network” is a CMRS network that is newly deployed subsequent to the effective date of the Third Report and Order in PS Docket No. 07-114 and that is not an expansion or upgrade of an existing CMRS network.

The information provided by wireless carriers deploying new CMRS networks to report the counties or PSAP service areas where the carriers cannot provide E911 location accuracy at either the county or the PSAP level will furnish the Commission, affected PSAPs, state and local emergency agencies, public safety organizations and other interested stakeholders the supplementary data necessary for public safety awareness of those areas where it is most difficult to measure location accuracy during the benchmark periods for handset-based wireless carriers.

The provision of confidence and uncertainty data to PSAPs by the new CMRS providers and the SSPs responsible for transporting that data between them and PSAPs will enhance the PSAPs' ability to efficiently direct first responders to the correct location of emergencies to achieve the emergency response goals of the nation in responding expeditiously to emergency crisis situations and in ensuring homeland security.

OMB Control Number: 3060-0400.

Title: Part 61, Tariff Review Plan (TRP).

Form Number: N/A.

Type of Review: Revision of a currently approved collection.

Respondents: Business or other for-profit entities.

Number of Respondents: 2,840 respondents; 8,554 responses.

Estimated Time per Response: .5 hours to 53 hours.

Frequency of Response: On occasion, annual, biennial, and one time reporting requirements.

Obligation to Respond: Required to obtain or retain benefits. Statutory authority for this information collection is contained in 47 U.S.C. Sections 201, 202, 203, and 251(b)(5) of the Communications Act of 1934, as amended.

Total Annual Burden: 121,656 hours.

Total Annual Cost: N/A.

Privacy Impact Assessment: N/A.

Nature and Extent of Confidentiality: Respondents are not being asked to submit confidential information to the Commission. If the Commission requests respondents to submit information which respondents believe are confidential, respondents may request confidential treatment of such information under 47 CFR 0.459 of the Commission's rules.

Needs and Uses: The Commission will submit this revised information collection to the Office of Management and Budget (OMB) during this 30 day comment period to obtain the full three year approval from them. The hourly burden has increased by 117,056 hours which is due to an Order that was adopted and released requiring or permitting incumbent and competitive local exchange carriers, as part of transitioning regulation of interstate and intrastate switched access rates and reciprocal compensation rates to bill-and-keep under section 251(b)(5), to file tariffs with state commissions and the FCC. This transition affects different switched access rates at specified timeframes and establishes an Access Recovery Charge by which carriers will be able to assess end users a monthly charge to recover some or all of the revenues they are permitted to recover resulting from reductions in intercarrier compensation rates. Price cap LECs must remove the rate elements in the traffic-sensitive and trunking baskets from price cap regulation on July 1, 2012. There interstate tariff filings will require cost support that generally is encompassed in the existing support burdens and, in many cases, may be satisfied through the data collection encompassed by a new information collection entitled “Intercarrier Compensation and Universal Service Compliance and Monitoring” which will also be submitted to the OMB for approval and assigned an OMB control number (see description of new information collection below). The intrastate tariff filings may, depending on state requirements, require supporting materials to be filed that may also largely be satisfied by submitting the new information collection referenced above.

As of November 2010, there are 92 total incumbent LECs that file interstate tariffs. Of them, there are 39 ILECs that file pursuant to price cap regulation under Sections 61.41-61.49 of the Commission's rules. Outside of the National Exchange Carrier Association (NECA), there are 12 ILECs filing their own tariffs pursuant to rate-of-return regulation under Section 61.38 of the Commission's rules. The remaining 40 ILECs file their own tariffs pursuant to section 61.39 of the Commission's rules. NECA files one Tariff Review Plan for approximately 1,000 Sections 61.38 and 61.39 ILECs. Therefore, we estimate 51 + 40 +1 (NECA) = 92 filing entities.

We also estimate that 330 competitive and incumbent LECs will have to make a one-time interstate tariff filing to permit them to assess access charges on Voice over Internet Protocol (VoIP) calls. We estimate that 2,840 competitive and incumbent LECs will have to file intrastate tariffs annually which may require supporting materials to be filed. We also estimate that 2,840 competitive and incumbent LECs will have to make a one-time intrastate tariff filing to establish VoIP rates at interstate rate levels that may require supporting materials to be filed. Finally, we estimate that 1,340 incumbent LECs annually will certify, as part of their tariff filings to the Commission and to the relevant state commission, that they are not seeking duplicative recovery in the state jurisdiction for an Eligible Recovery subject to the recovery mechanism.

For those services still requiring cost support, TRPs assist the Commission in determining whether ILEC access charges are just and reasonable as required under the Communications Act of 1934, as amended.

OMB Control Number: 3060-0298.

Title: Part 61, Tariffs (Other than the Tariff Review Plan).

Form Number: N/A.

Type of Review: Revision of a currently approved collection.

Respondents: Business or other for-profit entities.

Number of Respondents: 3,210 respondents; 7,350 responses.

Estimated Time per Response: 20 hours to 50 hours.

Frequency of Response: On occasion, annual, biennial and one time reporting requirements.

Obligation to Respond: Required to obtain or retain benefits. Statutory authority for this information collection is contained in 47 U.S.C. Sections 151-155, 201-205, 208, 251-271, 403, 502 and 503 of the Communications Act of 1934, as amended.

Total Annual Burden: 215,500 hours.

Total Annual Cost: $1,410,150.

Privacy Impact Assessment: N/A.

Nature and Extent of Confidentiality: Respondents are not being asked to submit confidential information to the Commission. If the Commission requests respondents to submit information which respondents believe are confidential, respondents may request confidential treatment of such information under 47 CFR 0.459 of the Commission's rules.

Needs and Uses: The Commission is seeking OMB approval for this revised collection. The Commission will submit this information collection to the OMB after publication of this 30 day notice.

On November 18, 2011, the Commission adopted the USF/ICC Transformation Order, FCC 11-161, that requires or permits incumbent and competitive local exchange carriers as part of transitioning regulation of interstate and intrastate switched access rates and reciprocal compensation rates to bill-and-keep under section 251(b)(5) of the Communications Act of 1934, as amended, to file tariffs with state commissions and the FCC. This transition affects different switched access rates at specified timeframes and establishes an Access Recovery Charge by which carriers will be able to assess end uses a monthly charge to recover some or all of the revenues they are permitted to recover resulting from reductions in intercarrier compensation rates. We estimate that 40 rate-of-return LECs will need to make an additional interstate access tariff filing annually and that 330 competitive and incumbent LECs will have to make a one-time filing to allow them to assess charges for Voice over Internet Protocol (VoIP). We also estimate that an additional 2,840 competitive and incumbent LECs will have to file intrastate tariffs annually. Finally, we estimate that 2,840 competitive and incumbent LECs will have to make a one-time intrastate tariff filing to establish VoIP rates of interstate rate levels.

The information collected through a carrier's tariff is used by the Commission and state commissions to determine whether services offered are just and reasonable as the Act requires. The tariffs and any supporting documentation are examined in order to determine if the services are offered in a just and reasonable manner.

OMB Control Number: 3060-1122.

Title: Preparation of Annual Reports to Congress for the Collection and Expenditures of Fees or Charges for Enhanced 911 (E911) Services Under the NET 911 Improvement Act of 2008.

Form Number: N/A.

Type of Review: Revision of a currently approved collection.

Respondents: State, local or tribal governments.

Number of Respondents: 56 respondents; 56 responses.

Estimated Time per Response: 50 hours.

Frequency of Response: Annual reporting requirement and recordkeeping requirement.

Obligation to Respond: Voluntary. Statutory authority for this information collection is contained in 47 U.S.C. Sections 201(b), 219(b) and 220 of the Communications Act of 1934, as amended.

Total Annual Burden: 2,800 hours.

Total Annual Cost: N/A.

Privacy Impact Assessment: N/A.

Nature and Extent of Confidentiality: There are no assurances of confidentiality provided to respondents. The Commission's rules address the issue of confidentiality at 47 CFR 0.457, 0.459 and 0.461. These rules address access to records that are not routinely available to the public, requests and requirements that materials submitted to the Commission be withheld from public inspection, and requests for inspection of materials not routinely available for public inspection.

Needs and Uses: The Commission is seeking OMB approval for this revised information collection in order to obtain the full three year clearance from them. There is no change in the Commission's previous burden estimates. The Commission will submit this information collection to the OMB after publication of this 30 day notice.

The Commission proposes to ask the following information:

1. A statement as to whether or not your State, or any political subdivision, Indian tribe, village or regional corporation therein as defined by Section 6(f)(1) of the NET 911 Act, has established a funding mechanism designated for or imposed for the purposes of 911 or E911 support or implementation (including a citation to the legal authority for such mechanism).

2. The amount of the fees or charges imposed for the implementation and support of 911 or E911 services and the total amount collected pursuant to the assessed fees or charges, for the annual period ending December 31, 20XX.

3. A statement describing how the funds collected are made available to localities, and whether your state has established written criteria regarding the allowable uses of the collected funds, including the legal citation to such criteria.

4. A statement identifying any entity in your State that has the authority to approve the expenditure of funds collected for 911 or E911 purposes; a description of any oversight procedures established to determine that collected funds have been made available or used for the purposes designated by the funding mechanism or otherwise used to implement or support 911; and a statement describing enforcement or other corrective actions undertaken in connection with such oversight, for the annual period ending December 31, 20XX.

5. A statement whether all the funds collected for 911 or E911 purposes have been made available or used for the purposes designated by the funding mechanism, or otherwise used for the implementation or support of 911 or E911.

6. A statement identifying what amount of funds collected for 911 or E911 purposes were made available or used for any purposes other than the ones designated by the funding mechanism or used for purposes otherwise unrelated to 911 or E911 implementation or support, including a statement identifying the unrelated purposes for which the funds collected for 911 or E911 purposes were made available or used.

7. A statement identifying which specificity all activities, programs, and organizations for whose benefit your State, or political subdivision thereof, has obligated or expended funds collected for 911 or E911 purposes and how these activities, programs, and organizations support 911 or E911 services or enhancements of such services.

8. A statement regarding whether your State classifies expenditures on Next Generation 911 as within the scope of permissible expenditures of funds for 911 or E911 purposes, whether your State has expended such funds on Next Generation 911 programs, and if so, how much your State has expended in the annual period ending December 31, 20XX on Next Generation 911 programs.

9. Any other comments you may wish to provide regarding the applicable funding mechanism for 911 or E911.

The purpose of this information collection is to meet the Commission's ongoing statutory obligations under the New and Emerging Technologies 911 Improvement Act of 2008, Public Law 110-283, 122 Stat. 2620 (2008) (NET 911 Act), which requires the Commission to submit an annual report to the Committee on Commerce, Science, and Transportation of the Senate and the Committee on Energy and Commerce of the House of Representatives, “detailing the status in each State of the collection and distribution of such fees or charges, and including findings on the amount of revenues obligated or expended by each State or political subdivision thereof for any purposes other than the purpose for which any such fees or charges are specified.”

Federal Communications Commission.
Bulah P. Wheeler,
Deputy Manager, Office of the Secretary, Office of Managing Director.

[FR Doc. 2012-8203 Filed 4-4-12; 8:45 am]

BILLING CODE 6712-01-P